DEPARTMENT OF THE INTERIOR

United States Geological Survey

Notice of an Open Meeting of the Advisory Committee on Water Information (ACWI)

SUMMARY: Notice is hereby given of a meeting of the ACWI. This meeting is to discuss broad policy-related topics relating to national water initiatives, and the development and dissemination of water information, through reports from ACWI subgroups. The agenda will include status of a proposal for a new ACWI subgroup on Ground Water Monitoring; a new proposal by the Subcommittee on Hydrology, from the Satellite Telemetry Interagency Working Group; status of the National Monitoring Network for U.S. Coastal Waters and their Tributaries; and a presentation on the new Wetland Mapping Standard Workgroup of the Federal Geographic Data Committee. The ACWI was established under the authority of the Office of Management and Budget Memorandum M92-01 and the Federal Advisory Committee Act. The purpose of the ACWI is to provide a forum for water information users and professionals to advise the Federal Government on activities and plans that may improve the effectiveness of meeting the Nation's water information needs. Member organizations help to foster communications between the Federal and non-Federal sectors on sharing water information.

Membership, limited to 35 organizations, represents a wide range of water resources interests and functions. Representation on the ACWI includes all levels of government, academia, private industry, and professional and technical societies. For more information on the ACWI, its membership, subgroups, meetings and activities, please see the Web site at: http://ACWI.gov.

DATES: The formal meeting will convene at 9:30 a.m. on October 4, 2006, and will adjourn at 4:15 p.m. on the same day.

ADDRESSES: The U.S. Geological Survey, Dallas L. Peck Auditorium, 12201 Sunrise Valley Drive, Reston, Virginia.

FOR FURTHER INFORMATION CONTACT: Ms. Toni J. Johnson, ACWI Executive Secretary and Chief, Water Information Coordination Program, U.S. Geological Survey, 12201 Sunrise Valley Drive, MS 417, Reston, VA 20192. Telephone: 703-648-6810; Fax: 703-648-5644; e-mail: tjohnson@usgs.gov.

SUPPLEMENTARY INFORMATION: This meeting is open to the public. Up to a half hour will be set aside for public comment. Persons wishing to make a brief presentation (up to 5 minutes) are asked to provide a written request with a description of the general subject to Ms. Johnson at the above address no later than noon, September 27, 2006. It is requested that 40 copies of a written statement be submitted at the time of the meeting for distribution to members of the ACWI and placement in the official file. Any member of the public may submit written information and (or) comments to Ms. Johnson for distribution at the ACWI meeting.

Dated: September 11, 2006.
Katherine Lins,
Chief, Office of Water Information.

[FR Doc. 06-7680 Filed 9-14-06; 8:45 am]

BILLING CODE 4311-AM-M